DEPARTMENT OF ENERGY

[GDO Docket No. EA-458-A]

Application for Renewal of Authorization To Export Electric Energy; Sempra Gas & Power Marketing, LLC

AGENCY: Grid Deployment Office, Department of Energy.

ACTION: Notice of application.

SUMMARY: Sempra Gas & Power Marketing, LLC (the Applicant) has applied for renewed authorization to transmit electric energy from the United States to Mexico pursuant to the Federal Power Act.

DATES: Comments, protests, or motions to intervene must be submitted on or before January 26, 2024.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On November 2, 2018, DOE issued Order No. EA-458 authorizing Sempra Gas & Power Marketing LLC to transmit electric energy from the United States to Mexico as a power marketer for a term of five years. On November 1, 2023, Sempra Gas & Power Marketing LLC filed an application with DOE (Application or App.) for renewal of their export authority for a period of ten years or for such period that DOE deems appropriate. App. at 3.

In its Application, the Applicant states it is a Delaware limited liability company and is a “wholly owned indirect subsidiary of Sempra f/k/a Sempra Energy, a public utility holding company based in San Diego, California.” Id. at 1-2. The Applicant further states it is a gas and power marketer and “is not a franchised public utility with a transmission or distribution system, and does not have captive customers.” Id. at 1. The Applicant represents that “[t]he electric energy that [the] Applicant would export on a firm or interruptible basis would be surplus energy purchased in wholesale markets in bilateral, voluntary transactions.” Id. at 5.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning the Applicant's Application should be clearly marked with GDO Docket No. EA-458-A. Additional copies are to be provided directly to Jerrod Harrison and Kevin Ding, Sempra Infrastructure, 488 8th Avenue, HQ12, San Diego, CA 92101, jharrison@sempraglobal.com and kding@sempraglobal.com, and Brett Snyder and Lamiya Rahman, Blank Rome LLP, 1825 Eye Street NW, Washington DC 20006, brett.snyder@blankrome.com and lamiya.rahman@blankrome.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on December 19, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 20, 2023.
Treena V. Garrett,
Federal Register Liaison Officer, U.S. Department of Energy.

[FR Doc. 2023-28477 Filed 12-26-23; 8:45 am]

BILLING CODE 6450-01-P